DEPARTMENT OF EDUCATION

National Assessment Governing Board; Meeting

AGENCY: National Assessment Governing Board, U.S. Department of Education.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than April 27, 2012. We will attempt to meet requests after this date but cannot guarantee availability of the requested accommodation. The meeting site is accessible to individuals with disabilities.

DATES: May 17-19, 2012.

Times

May 17

Committee Meetings

Assessment Development Committee (ADC): Closed Session: 12 p.m.-4:15 p.m.

Executive Committee: Open Session: 4:30 p.m.-5:30 p.m.; Closed Session: 5:30 p.m.-6 p.m.

May 18

Full Board: Open Session: 8:30 a.m.-9:45 a.m.; Closed Session: 12:30 p.m.-2 p.m.; Open Session: 2:15 p.m.-4:45 p.m.

Committee Meetings

Assessment Development Committee (ADC): Closed Session: 10 a.m.-12 p.m.; Open Session: 12 p.m.-12:30 p.m.

Reporting and Dissemination Committee (R&D): Open Session: 10 a.m.-12:30 p.m.

Committee on Standards, Design and Methodology (COSDAM): Open Session: 10 a.m.-11:20 a.m.; Closed Session: 11:25 a.m.-12:25 p.m.; Open Session: 12:25 p.m.-12:30 p.m.

May 19

Nominations Committee: Closed Session: 7:30 a.m.-8:15 a.m.

Full Board: Open Session: 8:30 a.m.-11:30 a.m.

Location: Marriott Plaza San Antonio, 555 South Alamo Street, San Antonio, TX 78205

FOR FURTHER INFORMATION CONTACT: Munira Mwalimu, Executive Officer, National Assessment Governing Board, 800 North Capitol Street NW., Suite 825, Washington, DC, 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: Selecting subject areas to be assessed, developing assessment frameworks and specifications, developing appropriate student achievement levels for each grade and subject tested, developing standards and procedures for interstate and national comparisons, developing guidelines for reporting and disseminating results, and releasing initial NAEP results to the public.

On May 17, 2012, two committee meetings are scheduled. The Assessment Development Committee (ADC) will meet in closed session from 12 p.m. to 4:15 p.m. to review secure computer-based tasks for the NAEP 2014 Technology and Engineering Literacy Assessment. During the closed session, ADC members will be provided specific test materials for review which are not yet available for release to the general public. Premature disclosure of these secure test items and materials would compromise the integrity and substantially impede implementation of the NAEP assessments and is therefore protected by exemption 9(B) of section 552b(c) of Title 5 of the United States Code.

On May 17, 2012, the Executive Committee will meet in open session from 4:30 p.m. to 5:30 p.m., and thereafter in closed session from 5:30 p.m. to 6 p.m. During the closed session, the Executive Committee will discuss a personnel matter. This portion of the meeting will be conducted in closed session because public discussion of this information would disclose information of a personal nature where disclosure would constitute an unwarranted invasion of personal privacy. As such, the discussions are protected by exemptions 2 and 6 of section 552b(c) of Title 5 of the United States Code.

On May 18, 2012, the full Board will meet in open session from 8:30 a.m. to 9:45 a.m., followed by a closed session from 12:30 p.m. to 2 p.m. and thereafter in open session from 2:15 p.m. to 4:45 p.m.

From 8:30 a.m. to 9:15 a.m. on May 18, the Board will review and approve the May 2012 meeting agenda and meeting minutes from the March 2012 Board meeting, followed by the Chairman's remarks and a welcome from San Antonio Board member Leticia van de Putte and a San Antonio policy maker. From 9:15 a.m. to 9:45 a.m. the Executive Director of the Governing Board will provide a report to the Board, followed by updates from the Commissioner of the National Center for Education Statistics (NCES) and the Director of the Institute of Education Sciences (IES). Following these sessions, the Board will recess for Committee meetings from 10 a.m. to 12:30 p.m.

The Reporting and Dissemination Committee will meet in open session from 10 a.m. to 12:30 p.m. The Assessment Development Committee (ADC) will meet in closed session from 10 a.m. to 12 p.m. and in open session from 12 p.m. to 12:30 p.m. During the first closed session, the ADC will complete its review of secure Technology and Engineering Literacy (TEL) tasks at grade 8, which was begun during the closed session on Thursday, May 17. ADC members will be provided with specific test materials for review which are not yet available for release to the general public. Premature disclosure of these secure test items and materials would compromise the integrity and substantially impede implementation of the NAEP assessments and is therefore protected by exemption 9(B) of section 552b(c) of Title 5 of the United States Code.

The second item on the ADC closed meeting agenda for May 18 will be a briefing on the NAEP mathematics special studies: the Mathematics Computer-based Study (MCBS) and the Knowledge and Skills Appropriate (KaSA) special study. The briefing on these two special studies must be conducted in closed session because the Committee will be discussing secure test items and embargoed data for 8th grade students. During the closed session, ADC members will be provided specific test materials for review which are not yet available for release to the general public. Premature disclosure of these secure test items and materials would compromise the integrity and substantially impede implementation of the NAEP assessments and is therefore protected by exemption 9(B) of section 552b(c) of Title 5 of the United States Code. Following this closed session ADC members will convene in open session to discuss the Expert Panel Report on NAEP Background Variables.

The Committee on Standards, Design and Methodology will meet in open session from 10 a.m. to 11:20 a.m. and thereafter in closed session from 11:25 a.m. to 12:25 p.m. followed by an open session from 12:25 p.m. to 12:30 p.m. During the closed session, the Committee will receive and review preliminary findings from the Grade 8 Mathematics Multi-Stage Adaptive Field Trial and the Committee will receive and discuss secure data on the NAEP writing achievement levels at grades 8 and 12. The Committee will be provided with specific writing achievement level descriptions, cut scores, consequences data, and data on exemplar performances—secure assessment data and writing achievement levels results that have not been approved for release and therefore cannot be disclosed to the public at this time. Premature disclosure of these secure data would significantly impede implementation of the NAEP assessments and reporting, and is therefore protected by exemption 9(B) of section 552b(c) of Title 5 U.S.C.

On May 18, 2012 from 12:30 p.m. to 2 p.m. the full Board will meet in closed session to receive two briefings. During the first session, NCES and its contractor will provide a demonstration of the computer-based writing assessment system, including secure tasks to which students were asked to respond. The demonstration of assessment tasks will depict data not yet released to the public. Following this briefing, a demonstration of the software used for the achievement level setting process will be provided to the Board along with the results on the Writing Achievement Levels for Grades 8 and 12. Both presentations provided to the Board will include secure items and embargoed assessment data and results that cannot be discussed in an open meeting prior to their official release by the Governing Board and NCES. Premature disclosure of these results would significantly impede implementation of the NAEP assessment program, and is therefore protected by exemption 9(B) of section 552b(c) of Title 5 United States Code.

Following the closed session, the Board will meet in the following open sessions: From 2:15 p.m. to 2:45 p.m., the Board will receive an update on the NAEP 12th Grade Preparedness Commission from the Commission Chair. From 2:45 p.m. to 3:30 p.m., the Board will discuss plans for reporting NAEP 12th Grade Academic Preparedness. Following this session, from 3:45 p.m. to 4:45 p.m., the Board will receive a presentation on changing demographics in the U.S. student population, with implications for NAEP. The May 18, 2012 session of the Board meeting is scheduled to conclude at 4:45 p.m.

On May 19, 2012, the Nominations Committee will meet in closed session from 7:30 p.m. to 8:15 a.m. to discuss the slate of candidates for Board terms beginning October 1, 2012. The Committee discussions pertain solely to internal personnel rules and practices of an agency and will discuss information of a personal nature where disclosure would constitute an unwarranted invasion of personal privacy. As such, the discussions are protected by exemptions 2 and 6 of section 552b(c) of Title 5 of the United States Code.

On May 19, from 8:30 a.m. to 9 a.m. the full Board will receive a briefing on the NAEP 2011 Science Report Card at Grade 8. Thereafter, from 9 a.m. to 10 a.m., the Board will receive a briefing from NCES on the planning, procurement and budgeting process, as an Inside NAEP briefing series.

From 10:15 a.m. to 11:30 a.m. the Board will receive Committee reports, discuss cross cutting issues raised by committees, and take action on Committee recommendations. The May 19, 2012 meeting is scheduled to adjourn at 11:30 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

Dated: April 20, 2012.
Munira Mwalimu,
Executive Officer, National Assessment Governing Board (NAGB), U.S. Department of Education.

[FR Doc. 2012-10006 Filed 4-25-12; 8:45 am]

BILLING CODE 4000-01-P